NATIONAL AERONAUTICS AND SPACE ADMINISTRATION

[Notice (20-034)]

NASA Advisory Council; Technology, Innovation and Engineering Committee; Meeting

AGENCY: National Aeronautics and Space Administration.

ACTION: Notice of meeting. [Note: This is a revised and resubmitted Federal Register Notice to inform the public that the subject meeting will now be virtual only, and has a new time.]

REF: Federal Register/Vol. 85, No. 41/Monday, March 2, 2020/Notices; page 12347.

SUMMARY: In accordance with the Federal Advisory Committee Act, as amended, the National Aeronautics and Space Administration (NASA) announces a meeting of the Technology, Innovation and Engineering Committee of the NASA Advisory Council (NAC). This Committee reports to the NAC. This meeting was announced in the Federal Register on March 2, 2020 (see reference above).

DATES: Thursday, March 19, 2020, 11:00 a.m.-5:00 p.m., Eastern Time. (Note new time)

ADDRESSES: Meeting will now be virtual only, see dial-in and WebEx information below under SUPPLEMENTARY INFORMATION.

FOR FURTHER INFORMATION CONTACT: Mr. Mike Green, Designated Federal Officer, Space Technology Mission Directorate, NASA Headquarters, Washington, DC 20546, (202) 358-4710, or g.m.green@nasa.gov.

SUPPLEMENTARY INFORMATION: As noted above, this meeting will be available telephonically and by WebEx only. You must use a touch-tone phone to participate in this meeting. Any interested person may dial the toll-free access number 1-844-467-6272 and enter the numeric participant passcode 102421 followed by the # sign. The WebEx link is https://nasaenterprise.webex.com, the meeting number is 903 769 393, and the password is n@cTIE031920. Note: If dialing in, please “mute” your telephone. The agenda for the meeting includes the following topics:

—Space Technology Mission Directorate Update

—FY 2021 Budget Proposal and Update

—Space Technology on International Space Station Update

—Lunar Surface Innovation Initiative Update

—Flight Opportunities and Small Spacecraft Technology Program Updates

—Office of the Chief Engineer Update

—Overview of Processes to Evaluate Technology Implementation

It is imperative that this meeting be held on this day to accommodate the scheduling priorities of the key participants.

Patricia Rausch,
Advisory Committee Management Officer, National Aeronautics and Space Administration.

[FR Doc. 2020-05654 Filed 3-17-20; 8:45 am]

BILLING CODE 7510-13-P